DEPARTMENT OF ENERGY

Federal Energy Regulatory Commission

Combined Notice of Filings #1

Take notice that the Commission received the following electric corporate filings:

Docket Numbers: EC19-11-000.

Applicants: Liberty Utilities (CalPeco Electric) LLC.

Description: Application for Authorization Under Section 203 of the Federal Power Act, et al. of Liberty Utilities (CalPeco Electric) LLC.

Filed Date: 10/12/18.

Accession Number: 20181012-5199.

Comments Due: 5 p.m. ET 11/2/18.

Take notice that the Commission received the following electric rate filings:

Docket Numbers: ER18-2029-001.

Applicants: Southern California Edison Company.

Description: Tariff Amendment: SCE's Response to Deficiency re GIA & DistribServAgmt AltaGas SA Nos. 1027-1028 to be effective 7/18/2018.

Filed Date: 10/15/18.

Accession Number: 20181015-5085.

Comments Due: 5 p.m. ET 11/5/18.

Docket Numbers: ER19-104-000.

Applicants: El Paso Electric Company.

Description: § 205(d) Rate Filing: Concurrence of EPE to APS Service Agreement No. 367 to be effective 9/7/2018.

Filed Date: 10/12/18.

Accession Number: 20181012-5176.

Comments Due: 5 p.m. ET 11/2/18.

Docket Numbers: ER19-105-000.

Applicants: PJM Interconnection, L.L.C.

Description: § 205(d) Rate Filing: Periodic Review of Variable Resource Requirement Curve Shape and Key Parameters to be effective 12/12/2018.

Filed Date: 10/12/18.

Accession Number: 20181012-5177.

Comments Due: 5 p.m. ET 11/2/18.

Docket Numbers: ER19-106-000.

Applicants: Birdsboro Power LLC.

Description: Baseline eTariff Filing: Application for Market Based Rate to be effective 12/1/2018.

Filed Date: 10/15/18.

Accession Number: 20181015-5048.

Comments Due: 5 p.m. ET 11/5/18.

Docket Numbers: ER19-107-000.

Applicants: ISO New England Inc.

Description: § 205(d) Rate Filing: 2019 Capital Budget & Revised Tariff Sheets for Recovery of 2019 Admin. Costs to be effective 1/1/2019.

Filed Date: 10/15/18.

Accession Number: 20181015-5061.

Comments Due: 5 p.m. ET 11/5/18.

Docket Numbers: ER19-108-000.

Applicants: PJM Interconnection, L.L.C.

Description: § 205(d) Rate Filing: Amendment to WMPA SA No. 4916; Queue No. AC2-070 to be effective 1/26/2018.

Filed Date: 10/15/18.

Accession Number: 20181015-5067.

Comments Due: 5 p.m. ET 11/5/18.

Docket Numbers: ER19-109-000.

Applicants: Duke Energy Ohio, Inc., PJM Interconnection, L.L.C.

Description: § 205(d) Rate Filing: Duke Energy Ohio submits IA SA No. 5186 and Cancellation of IA SA No. 1958 to be effective 6/30/2018.

Filed Date: 10/15/18.

Accession Number: 20181015-5068.

Comments Due: 5 p.m. ET 11/5/18.

Docket Numbers: ER19-110-000.

Applicants: ISO New England Inc.

Description: § 205(d) Rate Filing: Revised Tariff Sheets for Recovery of Costs for the 2019 Operation of NESCOE to be effective 1/1/2019.

Filed Date: 10/15/18.

Accession Number: 20181015-5069.

Comments Due: 5 p.m. ET 11/5/18.

Take notice that the Commission received the following electric securities filings:

Docket Numbers: ES19-2-000.

Applicants: KCP&L Greater Missouri Operations Company.

Description: Application under Section 204 of the Federal Power Act for Authorization to Issue Securities of KCP&L Greater Missouri Operations Company.

Filed Date: 10/12/18.

Accession Number: 20181012-5196.

Comments Due: 5 p.m. ET 11/2/18.

The filings are accessible in the Commission's eLibrary system by clicking on the links or querying the docket number.

Any person desiring to intervene or protest in any of the above proceedings must file in accordance with Rules 211 and 214 of the Commission's Regulations (18 CFR 385.211 and 385.214) on or before 5:00 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

Dated: October 15, 2018.
Nathaniel J. Davis, Sr.,
Deputy Secretary.

[FR Doc. 2018-22818 Filed 10-18-18; 8:45 am]

BILLING CODE 6717-01-P